DEPARTMENT OF COMMERCE

National Oceanic and Atmospheric Administration

Proposed Collection; Comment Request; Evaluation Support Services

AGENCY: National Oceanic and Atmospheric Administration (NOAA), Commerce.

ACTION: Notice.

SUMMARY: In accordance with the Paperwork Reduction Act of 1995, this notice invites the general public and other public agencies to comment on this proposed information collection for the National Oceanic and Atmospheric Administration. This is a new information collection for Evaluation Support Services.

DATES: Written comments should be received Written comments must be submitted on or before June 29, 2015.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Meka Laster at (301) 628-2906 or sent via email to meka.laster@noaa.gov. Individuals who use a telecommunication device for the deaf (TDD) may call the Federal Information Relay Service (FIRS) at 1-800-877-8339 between 8 a.m. and 8 p.m. Eastern Time, Monday through Friday.

SUPPLEMENTARY INFORMATION:

I. Abstract

This request is for a new information collection.

Since its establishment in 1970 under the Department of Commerce, the National Oceanic and Atmospheric Administration (NOAA)'s primary goals are to understand and predict changes in the Earth's environment, to conserve and manage coastal and marine resources, and to serve the nation's economic, social, and environmental needs. One of NOAA's staff offices, the Office of Education (OEd), also serves a critical function as the nation's primary educator on matters related to the ocean, coastal resources, the atmosphere, and climate. One of the ways NOAA fulfills its national duty is by providing educational resources and scholarship opportunities for future scholars.

The Ernest F. Hollings Undergraduate Scholarship Program (HUSP) was established in 2005; since then, it has provided support to approximately 1,144 undergraduate students. This scholarship opportunity provides 2 academic years of tuition support (up to $8,000 per year) and a 10-week paid internship with a NOAA mentor to competitive undergraduate scholars in NOAA-related major fields of study. The HUSP also provides undergraduates with additional supports such as living expenses, travel stipends, and conference allowances. The main goals of HUSP include increasing undergraduate training and research in NOAA sciences; recruiting and preparig students for careers as public servants and environmental science educators; and building public understanding of and support for environmental stewardship issues (i.e., increasing environmental literacy).

The Educational Partnership Program (EPP) comprises three unique components: The Undergraduate Scholarship Program (USP), the Graduate Studies Program (GSP), and four Cooperative Science Centers (CSCs). USP is a scholarship opportunity that provides recipients with hands-on research and training in NOAA-related sciences and provides scholars the opportunity to gain valuable work experience at NOAA facilities. To date, USP has funded 175 scholars. GSP is similar, and supported (funded 59 students) graduate students interested in pursuing NOAA mission-critical fields by providing them with work experience and hands-on training in NOAA-related research fields. The CSCs' overarching goal is to increase underrepresentation in STEM and NOAA-related fields by providing education and training opportunities in these fields. Each CSC has a distinct educational focus, defined mission, partner institution, and designated research partner. In addition to providing education and training opportunities for students, CSCs assist their MSI partners in building their institutional management, scientific, and research capacities in NOAA-related fields.

The proposed evaluation will examine the effectiveness of two of NOAA's OEd scholarship programs: EPP and HUSP. It will also assess the efficacy of the CSCs, which constitute another educational component central to NOAA's educational mission. The primary objective of this evaluation is to determine how well NOAA's HUSP and EPP scholarship programs translate to measurable outcomes for participants.

II. Method of Collection

This proposed mixed-methods evaluation will include the following components:

• Reviews of extant data to understand the program and historical trends.

• Web surveys of HUSP and EPP alumni with telephone follow-up to describe participant experiences and outcomes.

• A regression discontinuity design evaluation of HUSP, EPP USP, and EPP GSP to compare scholarship recipients to similar applicants who did not receive scholarships.

• Site visits to the CSCs to describe institution-level contexts and outcomes.

III. Data

OMB Control Number: 0648-xxxx.

Form Number(s): None.

Type of Review: Request for a new information collection.

Affected Public: Individuals or households.

Estimated Number of Respondents: 1,409 survey respondents (1,034 scholarship recipients and 375 scholarship non-recipients); 44 interviewees; 20 focus group participants (interviewees and focus groups composed of Cooperative Science Center management, faculty, and students).

Estimated Time per Response: 25 minutes per recipient survey; 15 minutes per nonrecipient survey; 60 minutes per community partner, institution partner, CSC administrator, and CSC center director interview; 90 minutes per student focus group.

Estimated Total Annual Burden Hours: 599.

Estimated Total Annual Cost to Public: $0 in recordkeeping/reporting costs.

IV. Request for Comments

Comments are invited on (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on those who are eligible to respond.

Comments submitted in response to this notice will be summarized and/or included in the request for OMB approval of this information collection; they also will become a matter of public record.

Dated: April 24, 2015.
Sarah Brabson,
NOAA PRA Clearance Officer.

[FR Doc. 2015-09967 Filed 4-28-15; 8:45 am]

BILLING CODE 3510-12-P